DEPARTMENT OF TRANSPORTATION

Federal Highway Administration

[Docket No. FHWA-2013-0062]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under SUPPLEMENTARY INFORMATION. We are required to publish this notice in the Federal Register by the Paperwork Reduction Act of 1995.

DATES: Please submit comments by February 18, 2014.

ADDRESSES: You may submit comments identified by DOT Docket ID Number 2013-0062 by any of the following methods:

Web site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE., Washington, DC 20590-0001.

Hand Delivery or Courier: U.S. Department of Transportation, West Building Ground Floor, Room W12-140, 1200 New Jersey Avenue SE., Washington, DC 20590, between 9 a.m. and 5 p.m. ET, Monday through Friday, except Federal holidays.

FOR FURTHER INFORMATION CONTACT: Joe Bloise, 225-757-7603, Federal Highway Administration, 5304 Flanders Drive, Suite A, Baton Rouge, Louisiana 70808. Office hours are from 8 a.m. to 5 p.m., Monday through Friday, except Federal holidays.

SUPPLEMENTARY INFORMATION: Title: Utilization of the Private Sector for Surveying and Mapping Services.

Background: Section 1517 of MAP-21, the Moving Ahead for Progress in the 21st Century Act (Pub. L. 112-141), requires the Secretary of Transportation to conduct a survey of all States to determine the percentage of projects carried out under title 23, United States Code, in each State that utilize private sector sources for surveying and mapping services. Additionally, Section 306 of Title 23, United States Code, requires the Secretary of Transportation to issue guidance to encourage States to utilize, to the maximum extent practicable, private sector sources for surveying and mapping services for projects under title 23 of the United States Code; and, to develop a process for the oversight and regular monitoring of each State's use of the private sector to provide these services.

The FHWA, via a survey, will be requesting information from the State Transportation Agencies to determine the percent of projects in each state for which private sector sources were utilized for surveying and mapping services. Included in the survey will be the request for information from the State transportation agencies, on the extent to which they use the private sector for surveying and mapping activities. Information obtained from the survey will be used to issue revised guidance recommending appropriate roles for government and private sector surveying activities and in continuing to encourage States to use private sector sources to provide these services. The survey results will also be used to develop a process for the oversight and regular monitoring of each State's use of the private sector to provide these services.

Respondents: State Transportation Agencies (52, including the District of Columbia and Puerto Rico) in the first year, with follow-up surveys every two years after the initial survey.

Frequency: Every two years after the initial survey.

Estimated Average Burden per Response: 24 hours per participant State and 1.5 hours in the follow-up years.

Estimated Total Annual Burden Hours: Approximately 1,248 hours in the first year and 78 hours in the follow-up years.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued On: December 17, 2013.
Michael Howell,
Information Collection Officer.

[FR Doc. 2013-30379 Filed 12-19-13; 8:45 am]

BILLING CODE 4910-22-P